DEPARTMENT OF COMMERCE

National Oceanic and Atmospheric Administration

RIN 0648-XZ33

Advisory Committee to the U.S. Section of the International Commission for the Conservation of Atlantic Tunas (ICCAT)—Fall Meeting

AGENCY: National Marine Fisheries Service (NMFS), National Oceanic and Atmospheric Administration (NOAA), Commerce.

ACTION: Notice of public meeting.

SUMMARY: In preparation for the 2010 International Commission for the Conservation of Atlantic Tunas (ICCAT) meeting, the Advisory Committee to the U.S. Section to ICCAT is announcing the convening of its fall meeting.

DATES: The meeting will be held October 18-20, 2010. There will be an open session on Monday, October 18, 2010, from 9 a.m. through approximately 3 p.m. The remainder of the meeting will be closed to the public and is expected to end by 1 p.m. on October 20. Oral comments can be presented during the public comment session on October 18, 2010. Written comments on issues being considered at the meeting will be made available to the Advisory Committee, and should be received no later than October 13, 2010 (see ADDRESSES).

ADDRESSES: The meeting will be held at the Hilton Washington DC/Silver Spring, 8727 Colesville Road, Silver Spring, MD 20910. Written comments should be sent to Keith Cialino at NOAA Fisheries, Office of International Affairs, Room 12641, 1315 East-West Highway, Silver Spring, MD 20910. Written comments can also be provided via fax (301-713-2313) or e-mail (Keith.Cialino@noaa.gov).

FOR FURTHER INFORMATION CONTACT: Keith Cialino, Office of International Affairs, 301-713-9090.

SUPPLEMENTARY INFORMATION: The Advisory Committee to the U.S. Section to ICCAT will meet October 18-20, 2010, first in an open session to consider management and research related information on stock status of Atlantic highly migratory species and then in a closed session to discuss sensitive matters. There will be an opportunity for oral public comment during the October 18, 2010 open session. The open session will be from 9 a.m. through 3 p.m. The public comment portion of the meeting is scheduled to begin at approximately 2 p.m. but could begin earlier depending on the progress of presentations. Written comments may also be submitted for the October open session by mail, fax or e-mail and should be received by October 13, 2010 (see ADDRESSES).

NMFS expects members of the public to conduct themselves appropriately at the open session of the meeting. At the beginning of the public comment session, an explanation of the ground rules will be provided (e.g., alcohol in the meeting room is prohibited, speakers will be called to give their comments in the order in which they registered to speak, each speaker will have an equal amount of time to speak and speakers should not interrupt one another). The session will be structured so that all attending members of the public are able to comment, if they so choose, regardless of the degree of controversy of the subject(s). Those not respecting the ground rules will be asked to leave the meeting.

After the open session, the Advisory Committee will meet in closed session to discuss sensitive information relating to upcoming international negotiations regarding the management of Atlantic highly migratory species, including monitoring, control, surveillance, and enforcement issues.

Special Accommodations

The meeting location is physically accessible to people with disabilities. Requests for sign language interpretation or other auxiliary aids should be directed to Keith Cialino at (301) 713-9090 or Keith.Cialino@noaa.gov at least 5 days prior to the meeting date.

Dated: September 28, 2010.
Jean-Pierre Plé
Deputy Director, Office of International Affairs, National Marine Fisheries Service.

[FR Doc. 2010-25232 Filed 10-5-10; 8:45 am]

BILLING CODE 3510-22-P